ENVIRONMENTAL PROTECTION AGENCY

40 CFR Part 52

[EPA-R05-OAR-2011-0828; FRL-9901-53-Region 5]

Approval and Promulgation of Air Quality Implementation Plans; Indiana

AGENCY: Environmental Protection Agency (EPA).

ACTION: Direct final rule.

SUMMARY: On September 19, 2011, Indiana submitted changes to its monitoring rules to EPA as a revision to its state implementation plan (SIP). The monitoring rules will be used to determine whether various source categories are in compliance with the applicable emission limits. On September 6, 2013, Indiana made a supplemental submission of a related definition. For the reasons discussed below, EPA is approving these revisions to the monitoring rules in the Indiana SIP.

DATES: This rule is effective December 23, 2013, unless EPA receives adverse comments by November 22, 2013. If adverse comments are received, EPA will publish a timely withdrawal of the direct final rule in the Federal Register informing the public that the rule will not take effect.

ADDRESSES: Submit your comments, identified by Docket ID No. EPA-R05-OAR-2011-0828, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2011-0828. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What is the background for this action?

II. What is EPA's analysis?

III. What action is EPA taking?

IV. Statutory and Executive Order Reviews

I. What is the background for this action?

Indiana requested a revision to its SIP in a submission to EPA dated September 19, 2011. In this submission, Indiana requested approval of revisions to 21 sections of 326 Indiana Administration Code (IAC) Article 3 concerning compliance monitoring, and one section of 326 IAC Article 7 concerning sulfur dioxide compliance monitoring requirements. On September 6, 2013, Indiana supplemented its request to submit a section of 326 IAC Article 1 that provides a definition of a term used in 326 IAC Article 3.

The submitted rules will revise and amend the existing monitoring and sulfur dioxide control requirements in Indiana SIP. In addition to 326 IAC 1-2-23.5, the State submitted specific sections of 326 IAC Article 3: 3-4-1, 3-4-2, 3-4-3, 3-5-1, 3-5-2, 3-5-3, 3-5-4, 3-5-5, 3-5-6, 3-5-7, 3-5-8, 3-6-1, 3-6-2, 3-6-3, 3-6-4, 3-6-5, 3-7-1, 3-7-2, 3-7-3, 3-7-4, and 3-7-5; and 326 IAC 7-2-1.

II. What is EPA's analysis?

EPA's analysis of the September 19, 2011, submission as supplemented on September 6, 2013, is as follows:

Article 1—General Provisions

Rule 2—Definitions

326 IAC 1-2-23.5 “Emissions Unit” Defined

This section provides the definition of an emissions unit to include “any part or activity of a stationary source that emits or has the potential to emit any regulated air pollutant under the Clean Air Act.” Indiana's definition is consistent with EPA's emissions unit definition found in 40 CFR part 70. Thus, EPA is approving this section into the Indiana SIP.

Rule 4—General Provisions

326 IAC 3-4-1 Definitions

This section contains definitions used throughout 326 IAC 3. EPA is approving this section into the Indiana SIP as the definitions are consistent with the definitions used by EPA.

326 IAC 3-4-2 Certification

This section requires that each report submitted under 326 IAC 3 contain a certification of truth, accuracy, and completeness. EPA is approving this section into the Indiana SIP because it promotes more accurate and complete monitoring reports.

326 IAC 3-4-3 Conversion Factors

This section provides the owner and operator of subject emissions unit with procedures for converting monitoring data to units of a standard, as needed. The conversion factors follow EPA's equations as found in the appendices to 40 CFR part 60, and 326 IAC 3-4-3 cites 40 CFR part 60 for the factors for certain units. Indiana may approve alternate procedures for computing emission averages that do not require data integration. It may also approve alternate methods of converting pollutant concentration measurements into units of the standard. Authority for state approval of these alternate emission averaging procedures and alternate conversion methods is provided in 40 CFR part 51, appendix P. EPA is approving the addition of this section into the Indiana SIP.

Rule 5—Continuous Monitoring of Emissions

326 IAC 3-5-1 Applicability; Continuous Monitoring Requirements for Applicable Pollutants

This section establishes methods the owner or operator of certain sources or emissions units are to use to determine compliance with an emission limitation or standard. This section also establishes procedures by which an owner or operator may request an alternative monitoring requirement. Any request for a alternative monitoring requirement must be approved by Indiana and submitted to EPA for approval. EPA is approving this section as a revision to the Indiana SIP.

326 IAC 3-5-2 Minimum Performance and Operating Specifications

This section provides the performance specifications and operating requirements the owner or operator of monitoring equipment installed must follow. The requirements are consistent with the Federal requirements found at 40 CFR part 75. Thus, EPA is approving this section as a revision to the Indiana SIP.

326 IAC 3-5-3 Monitor System Certification

This section provides the monitor system certification requirements the owner or operator of subject source or emissions unit must put in place when determining compliance. These requirements mirror Federal requirements in 40 CFR 60. EPA is approving this section as a revision to the Indiana SIP.

326 IAC 3-5-4 Standard Operating Procedures

This section provides for the development of written continuous monitoring standard operating procedures once the owner or operator of subject source or emissions unit has installed the required monitoring equipment. The standard operating procedure contains the systematic description of the monitor operation. Section 3-5-4 details all information that is required. EPA views the requirement for a written standard operating procedure as providing useful information similar to the requirement for a monitoring plan in 40 CFR 75.53. Thus, EPA is approving this section as a revision to the Indiana SIP.

326 IAC 3-5-5 Quality Assurance Requirements

This section provides quality assurance requirements for subject emission units that monitor for carbon dioxide, carbon monoxide, hydrogen sulfide, nitrogen oxide, oxygen, sulfur dioxide, total hydrocarbons, total reduced sulfur, volatile organic compounds, and particulate matter (PM-10 or PM2.5). The rules contain the applicable criteria on test frequency, audit criteria, and reporting requirements. The requirements follow 40 CFR parts 60 and 75. EPA is approving this section as a revision to the Indiana SIP.

326 IAC 3-5-6 Recordkeeping Requirements

This section provides recordkeeping and record retention requirements for the owner or operator of a subject source or emissions unit. The owner or operator of a subject source or emissions unit must provide the records to Indiana or EPA upon request. In 40 CFR part 75, subpart F, EPA requires similar recordkeeping requirements for sources operating continuous monitors. EPA is approving this section into the Indiana SIP.

326 IAC 3-5-7 Reporting Requirements

This section provides the requirements the owner or operator of subject source or emissions unit must follow when submitting a monitoring report. A source must provide information about its excess emissions and downtime during a reporting period. EPA is approving this section as an addition to the SIP as it satisfies Federal reporting requirements.

326 IAC 3-5-8 Operation and Maintenance of Continuous Emissions Monitoring and Continuous Opacity Monitoring Systems

This section provides instruction to the owner or operator on the operation and maintenance of a continuous emissions monitoring system (CEMS) and a continuous opacity monitoring system (COMS). Indiana requires all subject sources to install, calibrate, maintain, operate, and certify its CEMS or COMS. Exceptions are provided for periods when the emission source is not operating or does not require continuous monitoring, the CEMS or COMS is malfunctioning, and during quality assurance checks are being performed on the CEMS or COMS. Under the definition of an emissions unit in 326 IAC 1-2-23.5, a unit is not operating when it has no potential to emit any Clean Air Act (CAA) regulated pollutants. The remaining exemptions in 326 IAC 3-5-8 are consistent with 40 CFR 60.13. Therefore, EPA is approving this section into the Indiana SIP.

Rule 6—Source Sampling Procedures

326 IAC 3-6-1 Applicability; Test Procedures

This section provides the test procedures the owner or operator of a subject emissions unit must follow to determine compliance with an applicable emission limitation. Specifically, it requires the owner or operator of a subject emissions unit to follow applicable procedures and analysis methods specified in 40 CFR parts 51, 60, 61, 63, 75 or another EPA-approved method. EPA is approving this section into the Indiana SIP.

326 IAC 3-6-2 Source Sampling Protocols

This section requires the owner or operator of a subject emissions unit to provide its emissions test protocol (i.e., protocol by which facility plans to conduct the emissions test) to Indiana prior to the intended test date. The section allows for modifications to the sampling protocol, upon approval by Indiana. Indiana may modify portions of the sampling protocol such as the conditions under which the testing is performed. This section is consistent with the requirements of 40 CFR 64.6, and is being approved into the Indiana SIP.

326 IAC 3-6-3 Emission Testing

This section establishes procedures on how to perform emissions tests, quality assurance, and quality control activities. Indiana requires emission units be tested under the applicable Federal regulations, either 40 CFR part 60, 61, or 63. EPA is approving this section into the Indiana SIP.

326 IAC 3-6-4 Reporting

This section details what information an owner or operator of a subject source or emissions unit should include in an emission test report. Sources are required to submit a report no later than 45 days following the emission test. The requirements follow the compliance assurance monitoring reporting obligations given in 40 CFR 64.9. EPA is approving this section into the Indiana SIP.

326 IAC 3-6-5 Specific Testing Procedures; Particulate Matter; PM10; PM2.5; Sulfur Dioxide; Nitrogen Oxides; Volatile Organic Compounds

This section provides the specific emission tests required by subject sources of the title pollutants. The emission test requirements are consistent with 40 CFR parts 51, 60, and 63, and must be approved by Indiana and EPA. The exception is Richmond Power and Light's Whitewater Generating Station, whose source-specific test method was approved by EPA on April 9, 1996 (61 FR 15704). Thus, all emission test methods required by this section are identical to the EPA methods or have been previously approved. EPA is approving this section into the Indiana SIP.

Rule 7—Fuel Sampling and Analysis Procedures

326 IAC 3-7-1 Applicability

This section applies to fuel sampling and analysis that is performed to determine compliance with the emission limitations specified in 326 IAC Article 7. EPA is approving this section into the Indiana SIP.

326 IAC 3-7-2 Coal Sampling and Analysis Methods

This section provides the owner or operator of a subject source with requirements for coal sampling and analysis, and the determination of sulfur and heat content for sources with total coal-fired capacity between 100 and 1,500 million British Thermal Units (BTUs) and for sources with capacity greater than 1,500 million BTUs. The coal sampling and analysis protocols in this section are already Federally approved in 326 IAC 7-2-1 (September 26, 2005; 70 FR 56129). EPA is approving this section into the Indiana SIP.

326 IAC 3-7-3 Alternative Coal Sampling and Analysis Methods

This section establishes procedures by which an owner or operator of a subject source may obtain an alternative coal sampling and analysis to that provided in 326 IAC 3-7-2. The owner or operator of a subject source must receive prior approval from Indiana and EPA before an alternate protocol can be used. EPA is approving this section into the Indiana SIP.

326 IAC 3-7-4 Fuel Oil Sampling; Analysis Methods

This section specifies the test protocol the owner or operator of a subject source or an emissions unit should follow when analyzing fuel oil. The section provides the specific ASTM procedure to be used for each analysis for a variety of fuel oil samples. Approval of the sampling or analysis procedure requires written permission from both Indiana and EPA. EPA is approving this section into the Indiana SIP.

326 IAC 3-7-5 Recordkeeping Requirements; Standard Operating Procedures

This section provides the owner or operator of a subject source or an emissions unit a protocol to use to develop a standard operating procedure for records. The requirement to keep such records is consistent with the recordkeeping requirement of 40 CFR 64.9. EPA is approving this section into the Indiana SIP.

Article 7—Sulfur Dioxide Rules

Rule 2—Compliance

326 IAC 7-2-1 Reporting Requirements; Methods To Determine Compliance

Indiana has modified this section to provide the owner or operator of a subject source or emissions unit a method to determine compliance or noncompliance with its sulfur dioxide emissions limitation. Indiana added that an alternate compliance test method that has been approved by Indiana and EPA may be used by sources in place of the standard test methods, CEMS, or the fuel sampling and analysis methods already authorized. EPA is approving the revised 326 IAC 7-2-1 into the Indiana SIP.

III. What action is EPA taking?

EPA is approving compliance monitoring rules into the Indiana SIP. EPA is approving two revised sections and 21 additional sections. EPA is approving the revisions to 326 IAC 3-5-1 and 326 IAC 7-2-1 into the Indiana SIP. EPA is adding 326 IAC 1-2-23.5, 326 IAC 3-4-1, 326 IAC 3-4-2, 326 IAC 3-4-3, 326 IAC 3-5-2, 326 IAC 3-5-3, 326 IAC 3-5-4, 326 IAC 3-5-5, 326 IAC 3-5-6, 326 IAC 3-5-7, 326 IAC 3-5-8, 326 IAC 3-6-1, 326 IAC 3-6-2, 326 IAC 3-6-3, 326 IAC 3-6-4, 326 IAC 3-6-5, 326 IAC 3-7-1, 326 IAC 3-7-2, 326 IAC 3-7-3, 326 IAC 3-7-4, and 326 IAC 3-7-5 to the SIP.

We are publishing this action without prior proposal because we view this as a noncontroversial amendment and anticipate no adverse comments. However, in the proposed rules section of this Federal Register publication, we are publishing a separate document that will serve as the proposal to approve the state plan if relevant adverse written comments are filed. This rule will be effective December 23, 2013 without further notice unless we receive relevant adverse written comments by November 22, 2013. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 23, 2013.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the CAA criteria. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under CAA section 307(b)(1), petitions for judicial review of this action must be filed in the United States Court of Appeals for the appropriate circuit by December 23, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Nitrogen oxides, Particulate matter, Reporting and recordkeeping requirements, Sulfur oxides, Volatile organic compounds.

Dated: September 18, 2013.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770 the table in paragraph (c) is amended by:

i. Adding a new entry in “Article 1. General Provisions” under “Rule 2. Definitions” for “1-2-23.5” in numerical order.

ii. Revising the entries for “Article 3. Monitoring Requirements”.

iii. Revising the entry for “Rule 2. Compliance” under the subheading entitled “Article 7. Sulfur Dioxide Rules”. The added and revised text reads as follows:

§ 52.770 Identification of plan.

* * * * *

(c) * * *

EPA-Approved Indiana Regulations
Indiana citation | Subject | Indiana effective date | EPA approval date | Notes
Article 1. General Provisions
* * * * * * *
Rule 2. Definitions
| * * * * * * *
1-2-23.5 | “Emissions unit” defined | 12/25/1998 | 10/23/13, [INSERT PAGE NUMBER WHERE THE DOCUMENT BEGINS]
* * * * * * *
Article 3. Monitoring Requirements
Rule 1. Continuous Monitoring of Emissions
3-1-1 | Applicability |  | 9/4/1981, 46 FR 44448
Rule 2.1. Source Sampling Procedures
3-2.1-5 | Specific Testing Procedures | 7/15/1995 | 4/9/1996, 61 FR 15704 |
Rule 4. General Provisions
3-4-1 | Definitions | 9/10/2011 | 10/23/13, [INSERT PAGE NUMBER WHERE THE DOCUMENT BEGINS] |
3-4-2 | Certification | 9/10/2011 | 10/23/13, [INSERT PAGE NUMBER WHERE THE DOCUMENT BEGINS] |
3-4-3 | Conversion factors | 9/10/2011 |  |
Rule 5. Continuous Monitoring of Emissions
3-5-1 | Applicability; continuous monitoring requirements for applicable pollutants | 9/10/2011 | 10/23/13, [INSERT PAGE NUMBER WHERE THE DOCUMENT BEGINS] |
3-5-2 | Minimum performance and operating specifications | 9/10/2011 | 10/23/13, [INSERT PAGE NUMBER WHERE THE DOCUMENT BEGINS] |
3-5-3 | Monitor system certification | 9/10/2011 | 10/23/13, [INSERT PAGE NUMBER WHERE THE DOCUMENT BEGINS] |
3-5-4 | Standard operating procedures | 9/10/2011 | 10/23/13, [INSERT PAGE NUMBER WHERE THE DOCUMENT BEGINS] |
3-5-5 | Quality assurance requirements | 9/10/2011 | 10/23/13, [INSERT PAGE NUMBER WHERE THE DOCUMENT BEGINS] |
3-5-6 | Recordkeeping requirements | 9/10/2011 | 10/23/13, [INSERT PAGE NUMBER WHERE THE DOCUMENT BEGINS] |
3-5-7 | Reporting requirements | 9/10/2011 | 10/23/13, [INSERT PAGE NUMBER WHERE THE DOCUMENT BEGINS] |
3-5-8 | Operation and maintenance of continuous emission monitoring and continuous opacity monitoring systems | 9/10/2011 | 10/23/13, [INSERT PAGE NUMBER WHERE THE DOCUMENT BEGINS] |
Rule 6. Source Sampling Procedures
3-6-1 | Applicability; test procedures | 9/10/2011 | 10/23/13, [INSERT PAGE NUMBER WHERE THE DOCUMENT BEGINS] |
3-6-2 | Source sampling protocols | 9/10/2011 | 10/23/13, [INSERT PAGE NUMBER WHERE THE DOCUMENT BEGINS] |
3-6-3 | Emission testing | 9/10/2011 | 10/23/13, [INSERT PAGE NUMBER WHERE THE DOCUMENT BEGINS] |
3-6-4 | Reporting | 9/10/2011 | 10/23/13, [INSERT PAGE NUMBER WHERE THE DOCUMENT BEGINS] |
3-6-5 | Specific testing procedures; particulate matter; PM10; PM2.5; sulfur dioxide; nitrogen oxides; volatile organic compounds | 9/10/2011 | 10/23/13, [INSERT PAGE NUMBER WHERE THE DOCUMENT BEGINS] |
Rule 7. Fuel Sampling and Analysis Procedures
3-7-1 | Applicability | 9/10/2011 | 10/23/13, [INSERT PAGE NUMBER WHERE THE DOCUMENT BEGINS] |
3-7-2 | Coal sampling and analysis methods | 9/10/2011 | 10/23/13, [INSERT PAGE NUMBER WHERE THE DOCUMENT BEGINS] |
3-7-3 | Alternate coal sampling and analysis methods | 9/10/2011 | 10/23/13, [INSERT PAGE NUMBER WHERE THE DOCUMENT BEGINS] |
3-7-4 | Fuel oil sampling; analysis methods | 9/10/2011 | 10/23/13, [INSERT PAGE NUMBER WHERE THE DOCUMENT BEGINS] |
3-7-5 | Recordkeeping requirements; standard operating procedures | 9/10/2011 | 10/23/13, [INSERT PAGE NUMBER WHERE THE DOCUMENT BEGINS] |
* * * * * * *
Article 7. Sulfur Dioxide Rules
* * * * * * *
Rule 2. Compliance
7-2-1 | Reporting requirements; methods to determine compliance | 9/10/2011 | 10/23/13, [INSERT PAGE NUMBER WHERE THE DOCUMENT BEGINS] |
* * * * * * *

* * * * *

[FR Doc. 2013-24118 Filed 10-22-13; 8:45 am]

BILLING CODE 6560-50-P